DEPARTMENT OF THE INTERIOR

Bureau of Land Management

[LLWY93000 L16100000.DU0000]

Notice of Intent To Amend the Resource Management Plan for the Rawlins Field Office and Associated Environmental Assessment, Wyoming

AGENCY: Bureau of Land Management, Interior.

ACTION: Notice of Intent.

SUMMARY: In compliance with the National Environmental Policy Act of 1969 (NEPA), as amended, and the Federal Land Policy and Management Act of 1976 (FLPMA), as amended, the Bureau of Land Management (BLM) Rawlins Field Office (RFO), Rawlins, Wyoming, intends to prepare a Resource Management Plan (RMP) amendment with an associated Environmental Assessment (EA) for the RFO and by this notice is announcing the beginning of the scoping process to solicit public comments and identify issues.

DATES: This notice initiates the public scoping process for the RMP amendment with associated EA. Comments on issues may be submitted in writing until May 11, 2012. The dates and locations of any scoping meetings will be announced at least 15 days in advance through the local news media, newspapers, and the BLM Web site at: http://www.blm.gov/wy/st/en/programs/Planning/rmps/rawlins.html. In order to be included in the analysis, all comments must be received prior to the close of the 30-day scoping period or 30 days after the last public meeting, whichever is later. The BLM will provide additional opportunities for public participation, as appropriate.

ADDRESSES: You may submit comments on issues and planning criteria related to the Rawlins RMP Visual Resource Management Amendment and Areas of Critical Environmental Concern Documentation/EA by any of the following methods:

• Web site: http://www.blm.gov/wy/st/en/programs/Planning/rmps/rawlins.html.

• Email: BLM_WY_RL_RMP_VRM@blm.gov. Please reference “Rawlins VRM Review” in the subject line.

• Fax: 307-328-4224

• Mail: Bureau of Land Management, Rawlins Field Office, 1300 North Third Street, P.O. Box 2407, Rawlins, Wyoming 82301-2407.

All comments must include a legible full name and address on the envelope, letter, fax, postcard, or email.

Documents pertinent to this proposal may be examined at the Rawlins Field Office, 1300 North Third Street, Rawlins, Wyoming.

FOR FURTHER INFORMATION CONTACT: Or to have your name added to our mailing list, contact John Spehar, Rawlins Field Office Plan Amendment Team Leader, telephone 307-328-4200; address, Bureau of Land Management, Rawlins Field Office, 1300 North Third Street, P.O. Box 2407, Rawlins, Wyoming 82301-2407; email, jspehar@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM RFO, Rawlins, Wyoming, intends to prepare an RMP amendment with an associated EA for the RFO, announces the beginning of the scoping process, and seeks public input on issues and planning criteria. The planning area is located in Albany, Carbon, Laramie and eastern Sweetwater counties, Wyoming, and encompasses approximately 3.5 million acres of BLM-administered public land and 4.5 million acres of Federal sub-surface mineral estate.

The BLM completed the Rawlins RMP revision in December 2008. However, the BLM's resolution of two protest issues—one regarding visual resource management (VRM) and the other regarding Areas of Critical Environmental Concern (ACECs)—required the RFO to conduct additional planning. In response to the first issue, the RFO has updated the visual resources inventory within the planning area. The BLM will use this updated inventory as a baseline to consider, analyze, and designate VRM classes for BLM-administered lands in the planning area.

This review will not include the decision area for the Chokecherry/Sierra Madre wind energy project, however, as a VRM amendment to the Rawlins RMP is being separately considered in the NEPA process associated with that project's review. Second, the BLM received nominations for ACECs from the public that were not reviewed or considered during the RMP revision process. The BLM will use this planning process to review and consider these nominations for potential designation as ACECs.

The purpose of the public scoping process is to determine relevant issues that will influence the scope of the environmental analysis, including alternatives, and guide the planning process. Preliminary issues for the plan amendment area have been identified by BLM personnel; Federal, State, and local agencies; and other stakeholders. The issues include: Energy development; special designations; resource accessibility; public land-urban interface; special status species; water quality; vegetation management; recreation, cultural resource, and paleontological resource management.

Preliminary planning criteria include:

• The RMP amendment will focus only on VRM class designations and review of previously submitted ACEC nominations;

• The RMP amendment will comply with NEPA, FLPMA, and other applicable laws, executive orders, regulations and policy;

• The RMP amendment will recognize valid existing rights;

• Lands covered in the EA for the plan amendment include any/all lands that may affect, or be affected by, the management occurring on the BLM-administered public lands in the RFO. However, planning decisions in the RMP and the VRM-targeted amendment will apply only to the BLM-administered public lands and Federal mineral estate in the planning area; and

• A collaborative and multi-jurisdictional approach will be used, where possible, to jointly determine the desired future condition and management direction for the public lands. To the extent possible and within legal and regulatory parameters, the BLM management and planning decisions will complement the planning and management decisions of other agencies, State and local governments, and Native American tribes, with jurisdictions intermingled with, and adjacent to, the planning area.

You may submit comments on issues and planning criteria in writing to the BLM at any public scoping meeting, or you may submit them to the BLM using one of the methods listed in the ADDRESSES section above. To be most helpful, you should submit comments by the close of the 30-day scoping period or within 30 days of the last public meeting, whichever is later.

Before including your address, phone number, email address, or other personal identifying information in your comment, you should be aware that your entire comment—including your personal identifying information—may be made publicly available at any time. While you may ask us in your comment to withhold your personal identifying information from public review, we cannot guarantee that we will be able to do so. The minutes and list of attendees for each scoping meeting will be available to the public and open for 30 days after the meeting to any participant who wishes to clarify the views he or she expressed. The BLM will evaluate identified issues to be addressed in the plan, and will place them into one of three categories:

1. Issues to be resolved in the plan amendment;

2. Issues to be resolved through policy or administrative action; or

3. Issues beyond the scope of this plan amendment.

The BLM will provide an explanation in the Draft RMP Amendment/EA as to why an issue was placed in category two or three. The public is also encouraged to help identify any management questions and concerns that should be addressed in the plan amendment. The BLM will work collaboratively with interested parties to identify the management decisions that are best suited to local, regional and national needs and concerns.

The BLM will use an interdisciplinary approach during the plan amendment process in order to consider the variety of resource issues and concerns identified. Specialists with expertise in the following disciplines will be involved in the planning process: Air quality, cultural resources, fire and fuels management, forest management, lands and realty, rangeland management, minerals and geology, outdoor recreation, paleontology, wildlife and fisheries, lands and realty, hydrology, soils, sociology and economics, and wild horses.

Authority: 40 CFR 1501.7, 43 CFR 1610.2

Larry Claypool,
Acting State Director, Wyoming.

[FR Doc. 2012-8683 Filed 4-10-12; 8:45 am]

BILLING CODE 4310-22-P